Proclamation 10366 of April 8, 2022

Pan American Day and Pan American Week, 2022

By the President of the United States of America

A Proclamation

On April 14, 1890, 18 nations of this hemisphere came together to form the International Union of American Republics—the oldest regional international organization in the world and the precursor to the modern-day Organization of American States. Today, the Organization of American States consists of 35 independent States from North America, Central America, South America, and the Caribbean and is dedicated to the principles of advancing peace, prosperity, and democracy throughout the Western Hemisphere. On Pan American Day and during Pan American Week, we recognize the strength of this regional community and celebrate our unity and shared values.

This year, as the United States prepares to host the Ninth Summit of the Americas—my Administration reaffirms our commitment to collectively addressing the challenges and opportunities we share with our regional neighbors. The theme of this year's summit, “Building a Sustainable, Resilient, and Equitable Future” focuses on working together with our partners to produce better outcomes and strengthen our ability to respond to critical issues that affect all our nations. We need to emerge from the pandemic and bolster global health security, build strong and inclusive democracies, advance a joint approach to regional migration management, ensure humanitarian protection, and root out the corruption that reduces our ability to make progress. We will seize opportunities to address the climate crisis and accelerate the green energy transition. We will foster a transformation that will expand access to digital technologies, support independent media and civil society organizations, and ensure that economic growth is equitable and inclusive.

My Administration's Build Back Better World initiative will play an important role in the Pan American region's recovery from the economic impact of the pandemic, promoting the highest labor, environmental, social, and technical standards. In addition, our Call to Action, a public-private partnership supporting long-term development in Central America, will continue to generate private sector interest and build upon its $1.2 billion investment in the region.

It is in our economic and national security interest and the entire Pan American region for our nations to advance a secure, economically prosperous, healthy, and democratic hemisphere for all our people. We can reach that future if we unite around principled and democratic leadership, anchored in the rule of law. The people throughout the region want governments that are accountable to voters and deliver real benefits including jobs, education, security, equal opportunity, and fundamental human and political rights. Support for democracy and respect for human rights is at the heart of all of the United States' engagement with our neighbors throughout the Americas. Twenty years after approval of the Inter-American Democratic Charter—affirming a collective commitment to strengthen democracy in the region—there is more work to do to fortify democratic institutions and prevent democratic backsliding in this hemisphere.

We will continue to build on the commitments made at the 2021 Summit for Democracy, in which 26 governments in the Western Hemisphere participated, to forge a more inclusive and democratic future. We will work with hemispheric leaders—incorporating the recommendations of diverse voices from youth, marginalized communities, the private sector, independent media, and civil society—to fulfill our commitments and drive our momentum forward.

This is the time to take bold collective action to address our shared challenges. Climate change, the pandemic, repression, corruption, and democratic backsliding have created migration and refugee flows unequaled in the modern history of the region. This is bigger than any one country and any one border. Coordinated regional efforts are essential to respond to urgent humanitarian needs, provide legal alternatives to irregular migration, address root causes, counter corruption, and crack down on human smuggling networks that exploit the most vulnerable. As we approach the Summit of the Americas, our goal is to chart a new regional approach to improve how we jointly manage migration across the region for the coming decade.

My Administration will continue to work tirelessly to address these and other challenges, and to achieve our shared goals in the Pan American region.

During this Pan American Day and Pan American Week, we celebrate our close ties and shared values with the region, and we come together in the spirit of unity and optimism for a resilient, sustainable, and equitable future for all people of the Americas.

NOW, THEREFORE, I, JOSEPH R. BIDEN JR., President of the United States of America, by virtue of the authority vested in me by the Constitution and the laws of the United States, do hereby proclaim April 14, 2022, as Pan American Day and April 10 through April 16, 2022, as Pan American Week. I urge the Governors of the 50 States, the Governor of the Commonwealth of Puerto Rico, and the officials of the other areas under the flag of the United States of America to honor these observances with appropriate ceremonies and activities.

IN WITNESS WHEREOF, I have hereunto set my hand this eighth day of April, in the year of our Lord two thousand twenty-two, and of the Independence of the United States of America the two hundred and forty-sixth.

[FR Doc. 2022-08079

Filed 4-12-22; 11:15 am]

Billing code 3395-F2-P